DEPARTMENT OF ENERGY

Federal Energy Regulatory Commission

Combined Notice of Filings #1

April 8, 2008.

Take notice that the Commission received the following exempt wholesale generator filings:

Docket Numbers: EG08-54-000.

Applicants: Airtricity Pyron Wind Farm, LLC.

Description: Notice of Self Certification of Exempt Wholesale Generator Status of Airtricity Pyron Wind Farm, LLC.

Filed Date: 04/07/2008.

Accession Number: 20080407-5124.

Comment Date: 5 p.m. Eastern Time on Monday, April 28, 2008.

Docket Numbers: EG08-55-000.

Applicants: Airtricity Inadale Wind Farm, LLC.

Description: Notice of Self Certification of Exempt Wholesale Generator Status of Airtricity Inadale Wind Farm, LLC.

Filed Date: 04/07/2008.

Accession Number: 20080407-5125.

Comment Date: 5 p.m. Eastern Time on Monday, April 28, 2008.

Docket Numbers: EG08-56-000.

Applicants: Airtricity Panther Creek Wind Farm, LLC.

Description: Notice of Self Certification of Exempt Wholesale Generator Status of Airtricity Panther Creek Wind Farm, LLC.

Filed Date: 04/07/2008.

Accession Number: 20080407-5150.

Comment Date: 5 p.m. Eastern Time on Monday, April 28, 2008.

Docket Numbers: EG08-57-000.

Applicants: Wolf Ridge Wind, LLC.

Description: Notice of Self Certification of Exempt Wholesale Generator Status of Wolf Ridge Wind, LLC.

Filed Date: 04/08/2008.

Accession Number: 20080408-5010.

Comment Date: 5 p.m. Eastern Time on Tuesday, April 29, 2008.

Take notice that the Commission received the following electric rate filings:

Docket Numbers: ER02-2042-004; ER99-2817-005; ER05-810-003.

Applicants: UGI Utilities, Inc.; UGI Development Company; UGI Energy Services, Inc.

Description: UGI Utilities Inc et al. submit an updated market power analysis.

Filed Date: 04/03/2008.

Accession Number: 20080407-0041.

Comment Date: 5 p.m. Eastern Time on Thursday, April 24, 2008.

Docket Numbers: ER06-1399-005.

Applicants: Sunbury Generation LP.

Description: Notice of Change in Status of Sunbury Generation LP.

Filed Date: 04/03/2008.

Accession Number: 20080403-5078.

Comment Date: 5 p.m. Eastern Time on Thursday, April 24, 2008.

Docket Numbers: ER07-1372-005.

Applicants: Midwest Independent Transmission System Operator, Inc.

Description: Motion of Midwest Independent Transmission System Operator, Inc. for Temporary Waiver of Tariff Provision, and Request for Expedited Consideration and Shortened Notice Period.

Filed Date: 04/04/2008.

Accession Number: 20080408-5003.

Comment Date: 5 p.m. Eastern Time on Thursday, April 17, 2008.

Docket Numbers: ER07-1415-001.

Applicants: Xcel Energy Services Inc.

Description: Northern States Power Company et al. submits an supplement to the 1/22/08 Filing of Substitute Sheet 1365Z.16N to the Midwest ISO Tariff.

Filed Date: 04/02/2008.

Accession Number: 20080403-0208.

Comment Date: 5 p.m. Eastern Time on Wednesday, April 23, 2008.

Docket Numbers: ER08-554-001.

Applicants: Allegheny Power.

Description: Allegheny Power submits a revised market-based rate tariff to replace the rate tariff that was included in the 2/12/08 application.

Filed Date: 03/31/2008.

Accession Number: 20080402-0109.

Comment Date: 5 p.m. Eastern Time on Monday, April 14, 2008.

Docket Numbers: ER08-622-001.

Applicants: Midwest Independent Transmission System Operator, Inc.

Description: Midwest Independent Transmission System Operator, Inc submits proposed revisions to the Credit Policy in Attachment L of the Midwest ISO Open Access Transmission and Energy Markets Tariff, FERC Electric Tariff, Third Revised 1.

Filed Date: 03/31/2008.

Accession Number: 20080404-0218.

Comment Date: 5 p.m. Eastern Time on Monday, April 21, 2008.

Docket Numbers: ER08-636-001.

Applicants: Standard Binghamton LLC.

Description: Standard Binghamton LLC submits an amendment to their 3/4/08 filing of a Petition for Acceptance of Initial Rate Schedule, Waivers and Blanket Authority.

Filed Date: 04/03/2008.

Accession Number: 20080407-0001.

Comment Date: 5 p.m. Eastern Time on Thursday, April 24, 2008.

Docket Numbers: ER08-693-000.

Applicants: NRG Southaven LLC, Southaven Power, LLC.

Description: Notice of withdrawal of application of NRG Southern LLC et al. for authorization of the disposition of jurisdictional facilities under section 203 of the Federal Power Act, request for waivers of Order 888 et al.

Filed Date: 04/04/2008.

Accession Number: 20080407-0047.

Comment Date: 5 p.m. Eastern Time on Friday, April 25, 2008.

Docket Numbers: ER08-778-001.

Applicants: New York Independent System Operator, Inc.

Description: New York Independent System Operator Inc submits an errata to the April 2 Filing and a clean version of the proposed Services Tariff sheet that was affected by the typographical error to the OATT.

Filed Date: 04/04/2008.

Accession Number: 20080407-0046.

Comment Date: 5 p.m. Eastern Time on Thursday, April 17, 2008.

Docket Numbers: ER08-779-000.

Applicants: Northwestern Corporation.

Description: NorthWestern Corp submits a revision to Rate Schedule 188.

Filed Date: 04/02/2008.

Accession Number: 20080404-0276.

Comment Date: 5 p.m. Eastern Time on Wednesday, April 23, 2008.

Docket Numbers: ER08-780-001.

Applicants: PJM Interconnection, L.L.C.

Description: PJM Interconnection LLC submits corrections to the 3/31/08 filing of revisions to the Open Access Transmission Tariff and the Amended and Restated Operating Agreement.

Filed Date: 04/03/2008.

Accession Number: 20080407-0002.

Comment Date: 5 p.m. Eastern Time on Thursday, April 24, 2008.

Docket Numbers: ER08-781-000.

Applicants: Central Illinois Light Company.

Description: Central Illinois Light Co. et al. submit an Electric Resource Sharing Agreement for Capacity.

Filed Date: 04/02/2008.

Accession Number: 20080404-0275.

Comment Date: 5 p.m. Eastern Time on Wednesday, April 23, 2008.

Docket Numbers: ER08-782-000.

Applicants: Union Electric Company.

Description: Union Electric Co. submits an application for approval to make power sales to its affiliates, Ameren Illinois Utilities.

Filed Date: 04/02/2008.

Accession Number: 20080404-0274.

Comment Date: 5 p.m. Eastern Time on Wednesday, April 23, 2008.

Docket Numbers: ER08-783-000.

Applicants: Ameren Energy Marketing Company.

Description: Ameren Energy Marketing Co. submits their application to make power sales to its affiliates, Ameren Illinois Utilities.

Filed Date: 04/02/2008.

Accession Number: 20080404-0273.

Comment Date: 5 p.m. Eastern Time on Wednesday, April 23, 2008.

Docket Numbers: ER08-784-000.

Applicants: West Valley Leasing Company, LLC.

Description: Application of West Valley Leasing Co., LLC for order accepting initial tariff (FERC Electric Tariff, Original Volume 1), waiving regulations, and granting blanket approvals.

Filed Date: 04/02/2008.

Accession Number: 20080404-0272.

Comment Date: 5 p.m. Eastern Time on Wednesday, April 23, 2008.

Docket Numbers: ER08-785-000.

Applicants: Niagara Mohawk Power Corporation.

Description: Niagara Mohawk Power Corporation dba National Grid submits a Notice of Termination of Rate Schedule 255 with Ondondaga Cogeneration Limited Partnership.

Filed Date: 04/03/2008.

Accession Number: 20080407-0007.

Comment Date: 5 p.m. Eastern Time on Thursday, April 24, 2008.

Docket Numbers: ER08-786-000.

Applicants: Avista Corporation.

Description: Avista Corporation submits an executed Letter Agreement with Clearwater Power Company etc.

Filed Date: 04/03/2008.

Accession Number: 20080407-0006.

Comment Date: 5 p.m. Eastern Time on Thursday, April 24, 2008.

Docket Numbers: ER08-787-000.

Applicants: Avista Corporation.

Description: Avista Corporation submits an executed Letter Agreement with Clearwater Power Company.

Filed Date: 04/03/2008.

Accession Number: 20080407-0005.

Comment Date: 5 p.m. Eastern Time on Thursday, April 24, 2008.

Docket Numbers: ER08-788-000.

Applicants: PacifiCorp.

Description: PacifiCorp submits Service Agreement 425 dated 3/7/08 for the installation of a new 230 kV substation on Bonneville Power Administration's Midway-Big Eddy 230 kV line.

Filed Date: 04/03/2008.

Accession Number: 20080407-0004.

Comment Date: 5 p.m. Eastern Time on Thursday, April 24, 2008.

Docket Numbers: ER08-794-000.

Applicants: Ameren Services Company.

Description: Central Illinois Public Service Company submits a Letter Agreement with Wabash Valley Power Association Inc as agent for MJM Electric Cooperative Inc etc.

Filed Date: 04/04/2008.

Accession Number: 20080407-0045.

Comment Date: 5 p.m. Eastern Time on Friday, April 25, 2008.

Docket Numbers: ER08-795-000.

Applicants: Ameren Services Company.

Description: Ameren Services Company submits a Letter Agreement with Wayne-White Counties Electric Cooperative with an effective date of 3/7/08.

Filed Date: 04/04/2008.

Accession Number: 20080407-0044.

Comment Date: 5 p.m. Eastern Time on Friday, April 25, 2008.

Docket Numbers: ER08-800-000; ER96-1085-012; EL05-122-001.

Applicants: South Carolina Electric & Gas Company.

Description: South Carolina Electric & Gas Co. submits a refund report summarizing refund payments made.

Filed Date: 04/03/2008.

Accession Number: 20080408-0038.

Comment Date: 5 p.m. Eastern Time on Thursday, April 24, 2008.

Take notice that the Commission received the following electric securities filings:

Docket Numbers: ES08-42-000.

Applicants: Southern Indiana Gas & Electric Company.

Description: Application of Southern Indiana Gas and Electric Company for Authority to Issue Short-Term Debt under section 204 of the Federal Power Act.

Filed Date: 04/07/2008.

Accession Number: 20080408-5001.

Comment Date: 5 p.m. Eastern Time on Monday, April 28, 2008.

Take notice that the Commission received the following open access transmission tariff filings:

Docket Numbers: OA07-115-001; OA08-95-001.

Applicants: Alcoa Power Generating Inc.—Yadkin.

Description: Yadkin Division of Alcoa Power Generating, Inc submits its Open Access Transmission Tariff Sheets containing revised Attachment C.

Filed Date: 04/03/2008.

Accession Number: 20080404-0233.

Comment Date: 5 p.m. Eastern Time on Thursday, April 24, 2008.

Docket Numbers: OA08-54-001; OA08-55-001; OA08-56-001; OA08-57-001; OA08-99-000.

Applicants: Deseret Generation & Transmission Co-op.; Idaho Power Company; NorthWestern Corporation; PacifiCorp; Black Hills Power, Inc.

Description: Deseret Generation & Transmission Co-operative, Inc et al. submit revised sheets & original sheets to Rate Schedule FERC 23 et al.

Filed Date: 04/03/2008.

Accession Number: 20080407-0003.

Comment Date: 5 p.m. Eastern Time on Thursday, April 24, 2008.

Docket Numbers: OA08-94-000.

Applicants: MATL LLP.

Description: MATL LLP submits Second Revised Sheet 7 et al. to Second Revised Volume 1 to its Open Access Transmission Tariff.

Filed Date: 03/17/2008.

Accession Number: 20080320-0052.

Comment Date: 5 p.m. Eastern Time on Monday, April 14, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-7961 Filed 4-14-08; 8:45 am]

BILLING CODE 6717-01-P